EXPORT-IMPORT BANK OF THE U.S.

[Public Notice 2012-0111]

Agency Information Collection Activities: Final Collection; Comment Request

AGENCY: Export-Import Bank of the U.S.

ACTION: Submission for OMB Review and Comments Request.

Form Title: EIB 94-07 Exporters Certificate for Use with a Short Term Export Credit Insurance Policy.

SUMMARY: The Export-Import Bank of the United States (Ex-Im Bank), as a part of its continuing effort to reduce paperwork and respondent burden, invites the general public and other Federal Agencies to comment on the proposed information collection, as required by the Paperwork Reduction Act of 1995.

Ex-Im Bank's financial institution policy holders provide this form to U.S. exporters, who certify to the eligibility of their exports for Ex-Im Bank support. The completed forms are held by the financial institution policy holders, only to be submitted to Ex-Im Bank in the event of a claim filing. A requirement of Ex-Im Bank's policies is that the insured financial institution policy holder obtains a completed Exporter's Certificate at the time it provides financing for an export.

This form will enable Ex-Im Bank to identify the specific details of the export transaction. These details are necessary for determining the eligibility of claims for approval. Ex-Im Bank staff and contractors review this information to assist in determining that an export transaction, on which a claim for non-payment has been submitted, meets all of the terms and conditions of the insurance coverage.

The Exporters Certificate for Use with a Short Term Export Credit Insurance Policy is a requirement of Ex-Im Bank's policies. The form can be viewed at www.exim.gov/pub/pending/eib94-07.pdf

DATES: Comments should be received on or before July 20, 2012 to be assured of consideration.

ADDRESSES: Comments maybe submitted electronically on www.regulations.gov or by mail to Office of Information and Regulatory Affairs, 725 17th Street NW., Washington, DC 20038 Attn: OMB 3048-0041.

SUPPLEMENTARY INFORMATION: Titles and Form Number: EIB 94-07 Exporters Certificate for Use with a Short Term Export Credit Insurance Policy.

OMB Number: 3048-xxx.

Type of Review: Regular.

Need and Use: Ex-Im Bank developed the referenced form to obtain exporter certification regarding the export transaction, U.S. content, non-military use, non-nuclear use, compliance with Ex-Im Bank's country cover policy, and their eligibility to participate in USG programs. These details are necessary to determine the legitimacy of claims submitted. It also provides the financial institution policy holder a check on the export transaction's eligibility, at the time it is fulfilling a financing request.

Affected Public: This form affects entities involved in the export of U.S goods and services.

Annual Number of Respondents: 2,500.

Estimated Time per Respondent: 10 minutes.

Number of forms reviewed by Ex-Im Bank: 23.

Note Ex-Im Bank only reviews this form when a claim is submitted. In Fiscal Year 2011, 23 claims were filed.

Government Annual Burden Hours: 2 hours.

Government Cost: $77.44.

Frequency of Reporting or Use: As needed.

Sharon A. Whitt,
Agency Clearance Officer.

[FR Doc. 2012-14997 Filed 6-19-12; 8:45 am]

BILLING CODE 6690-01-P